DEPARTMENT OF COMMERCE

Foreign-Trade Zones Board

[Docket 32-2004]

Foreign-Trade Zone 22—Chicago, IL, Area; Application for Expansion

An application has been submitted to the Foreign-Trade Zones (FTZ) Board (the Board), by the Illinois International Port District, grantee of FTZ 22, requesting authority to expand its zone in the Chicago, Illinois, area, adjacent to the Chicago Customs port of entry. The application was submitted pursuant to the provisions of the Foreign-Trade Zones Act, as amended (19 U.S.C. 81a-81u), and the regulations of the Board (15 CFR Part 400). It was formally filed on August 5, 2004.

FTZ 22 was approved on October 29, 1975 (Board Order 108, 40 FR 51242, 11/4/75) and expanded on April 9, 1987 (Board Order 353, 52 FR 12217, 4/15/87); on December 11, 1992 (Board Order 614, 57 FR 61044, 12/23/92); on November 21, 2000 (Board Order 1127, 65 FR 76218, 12/6/00); and, on December 19, 2003 (Board Order 1313, 69 FR 49, 1/2/04).

The general-purpose zone project currently consists of five sites (2,642 acres) in the Chicago area: Site 1 (19 acres)—within the Port's 2,250-acre Lake Calumet Harbor terminal facility; Site 2 (578 acres)—industrial park at One Diversatech Drive, Manteno; Site 3 (8 acres)—Gotoh Distribution Services, Inc., warehouse facility located at 703 Foster Avenue, Bensonville; Site 4 (8 acres)—Meiko America Inc. warehouse facility located at Gerry Drive and Hansen Court, Wood Dale; and, Site 5 (2,029 acres)—CenterPoint Intermodal Center, located east of Interstate 55 and south of Arsenal Road, Village of Elwood.

The applicant is now requesting authority to expand the general purpose zone to include a site in Joliet (Will County): Proposed Site 6 (317 acres) within the 371-acre Rock Run Business Park located in the northwest quadrant of Houbolt Road and Interstate 80. The site is currently partially developed and occupied by a variety of tenants engaged in warehousing, distribution and light manufacturing activities. Additional lots are available for build-to-suit and general warehouse facilities. The majority of the site is owned by Industrial Developments International, Inc., or its affiliates. No specific manufacturing requests are being made at this time. Such requests would be made to the board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is October 12, 2004. Rebuttal comments in response to material submitted during the foregoing period may be submitted during the subsequent 15-day period (to October 25, 2004).

A copy of the application and accompanying exhibits will be available during this time for public inspection at the address Number 1 listed above, and at the U.S. Department of Commerce Export Assistance Center, 55 West Monroe Street, Suite 2400, Chicago, IL 60603.

Dated: August 5, 2004.
Dennis Puccinelli,
Executive Secretary.

[FR Doc. 04-18396 Filed 8-10-04; 8:45 am]

BILLING CODE 3510-DS-P